DEPARTMENT OF COMMERCE

Foreign-Trade Zones Board

[B-1-2016]

Subzone 230D; Authorization of Limited Production Activity; Klaussner Furniture Industries, Inc. (Upholstered Furniture); Asheboro and Candor, North Carolina

On January 5, 2016, Klaussner Furniture Industries, Inc., operator of Subzone 230D, submitted a notification of proposed production activity to the Foreign Trade-Zones (FTZ) Board for its facilities within Subzone 230D, in Asheboro and Candor, North Carolina.

The notification was processed in accordance with the regulations of the FTZ Board (15 CFR part 400), including notice in the Federal Register inviting public comment (81 FR 3100, January 20, 2016). The FTZ Board has determined that further review of part of the proposed activity is warranted at this time. The production activity described in the notification is authorized on a limited basis, subject to the FTZ Act and the FTZ Board's regulations, including Section 400.14, and further subject to a restriction requiring that foreign status upholstery leather including hides (classified within HTSUS Subheadings 4107.11, 4107.92, and 4107.99) be admitted to the subzone in privileged foreign status (19 CFR 146.41).

Dated: June 2, 2016.
Andrew McGilvray,
Executive Secretary.

[FR Doc. 2016-13720 Filed 6-9-16; 8:45 am]

BILLING CODE 3510-DS-P